FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—08/20/2007
20071881 | Mr. Ronny Pecik | Springwater MWZ Holdings S.a.r.l. | MWZ Beteiligungs-GmbH.
20071882 | Mag. Georg Stumpf | Springwater MWZ Holdings S.a.r.l. | MWZ Beteiligungs-GmbH.
20071921 | Hewlett-Packard Company | Opsware Inc | Opsware Inc.
20071934 | Intel Corporation | EMC Corporation | VMware, Inc.
20071941 | Chrestview Partners, L.P | Ronald I. Dozeretz, M.D | FHC Health Systems, Inc.
20071945 | Cisco Systems, Inc | EMC Corporation | VMware, Inc.
20071947 | Gordon W. Ommen | US BioEnergy Corporation | US BioEnergy Corporation.
20071957 | EMC Corporation | BusinessEdge Solutions Inc | BusinessEdge Solutions Inc.
20071961 | Concur Technologies, Inc | Jupiter Partners L.P | H-G Holdings, Inc.
20071974 | HBK Fund, L.P | Blackstone ECC Communications Partners, L.P | Montecito Television License Corp. of Topeka, Montecito Television License Corp. of Wichita, SJL of Kansas Corp., Topeka Television Corp.
20071976 | Warburg Pincus Private Equity IX, L.P | Inspire Pharmaceuticals, Inc | Inspire Pharmaceuticals, Inc.
20071986 | Sector Performance Fund, LP | Joseph D. Kestenbaum | Unitek USA, LLC.
20071994 | Anil Ambani | Yipes Holdings, Inc | Yipes Holdings, Inc.
Transactions Granted Early Termination—08/21/2007
20071931 | Waste Connections, Inc | Dominick DiVello | BroadAcre Landfill, Inc., U.S. Waste Industries, Inc.
20071932 | Waste Connections, Inc | Victor DiVello | BroadAcre Landfill, Inc., U.S. Waste Industries, Inc.
20071968 | Wolseley plc | Davidson Pipe Company Inc | Davidson Pipe Company Inc.
20071972 | F5 Networks, Inc | Acopia Networks, Inc | Acopia Networks, Inc.
20071980 | Bank of America Corporation | ABN AMRO Holdings N.V | ABN AMRO North America Holding Company.
Transactions Granted Early Termination—08/22/2007
20071346 | Rockwood Holdings, Inc | Elementis plc | Elementis Holdings Ltd.
20071939 | Harold L. Rosbottom, Jr | W. Barry Milner | Exploreco Energy, Inc., Exploreco Pipe LLC.
20071940 | Harold L. Rosbottom, Jr | Don K. Milner | Exploreco Energy, Inc., Exploreco Pipe LLC.
20071942 | HTS Stiftung | Austria Metall Aktiengesellschaft | Austria Metall Aktiengesellschaft.
Transactions Granted Early Termination—08/23/2007
20071853 | Carl C. Icahn | Biogen Idec Inc | Biogen Idec Inc.
20071854 | Ichan Partners Master Fund LP | Biogen Idec Inc | Biogen Idec Inc.
20071855 | Icahn Partners Master Fund II L.P | Biogen Idec Inc | Biogen Idec Inc.
20071856 | Icahn Partners L.P | Biogen Idec Inc | Biogen Idec Inc.
20071936 | BBA Aviation PLC | Landow Aviation Limited Partnership | Landow Aviation Limited Partnership.
20071943 | Citigroup Inc | Ameriquest Capital Corporation | ACC Capital Holdings Corporation, AMC Mortgage Services, Inc., Ameriquest Mortgage Company, Argent Mortgage Company LLC.
20071969 | IHOP Corp | Applebee's International, Inc | Applebee's International, Inc.
20071970 | Ristretto Holdings SCA | Williams Scotsman International, Inc | Williams Scotsman International, Inc.
20071981 | ZM Private Equity Fund I, L.P | EAC Holdings, L.L.C | Erickson Air-Crane Incorporated.
Transactions Granted Early Termination—08/24/2007
20071804 | Cenveo, Inc | Ira B. Kristel | Commercial Envelope Manufacturing Co., Inc.
20071848 | Mr. Leonardo Del Vecchio | Jim H. Jannard | Oakley Inc.
20071891 | GS Global Infrastructure Partners I, L.P | Trust of Fred R. Smith and Ouida M. Smith | FRS Capital Corp.
20071904 | Time Warner Inc | Tacoda, Inc | Tacoda, Inc.
20071935 | Veolia Environnement S.A | Allied Waste Industries, Inc | Allied Services, LLC, Allied Waste Transportation, Inc., Awin Leasing, Inc., BFI Waste Services, LLC, Blue Ridge Landfill General Partnership, E Leasing Company, LLC, Golden Waste Disposal, Inc., H. Leasing Company, LLC, Local Sanitation of Rowen County, L.L.C., Packerton Land Company, L.L.C., Wayne County Landfill IL, Inc.
20071937 | Richard L. Duobossois | DHP Acquisition Corp | DESA Europe B.V., DESA Heating, LLC, DESA Industries of Canada, Inc., DESA LLC, DESA, LLC, DESA Speacialty, LLC, DESA (UK) Limited, Heath Company Limited, HIG-DHP Barbados, Ltd.
20071952 | MMI Investments, L.P | The Brink's Company | The Brink's Company.
20071957 | Castlerigg International Limited | Plains Exploration & Production Company | Plains Exploration & Production Company.
20071965 | Compagnie Generale des Etablissements Michelin | Cooper Tire & Rubber Company | Oliver Rubber Company.
Transactions Granted Early Termination—08/27/2007
20071641 | Ceradyne, Inc | EaglePicher Corporation | EaglePicher Boron, LLC.
20071873 | Great Plains Energy Incorporated | Aquila, Inc | Aquila, Inc.
20071919 | Black Hills Corporation | Aquila, Inc | Aquila, Inc.
20071951 | Pella Corporation | EFCO Corporation | EFCO Corporation.
20071984 | AT&T Inc | Deutsche Telekom AG | AT&T Mobility LLC, T-Mobile USA, Inc.
20071985 | Deutsche Telekom AG | AT&T Inc | AT&T Mobility LLC.
20071989 | RoundTable HealthCare Partners II, L.P | Michael C. Bieker | MarketLab, Inc.
20071991 | Bain Capital Fund IX, L.P | American Standard Companies Inc | American Standard Philippines L.L.C., American Standard B&K Mexico, S. de R.L. de C.V., American Standard B&K (Thailand) Public Company Limited, American Standard Consulting (Shanghai) Co. Ltd., American Standard Foreign Trading Limited, American Standard Korea, Inc., American Standard Philippines II L.L.C., American Standard (U.K.) Co., A-S Thai Holdings Ltd., CAPP Holdings Limited, Ceramic Sanitaryware Pte. Ltd., Edwards Logistics Limited, Egyptian American Industrial Plastics Co., S.A.E., Ideal Standard Beteiligungus-GmbH, Ideal Standard Bulgaria AD, Ideal Standard do Brasil Industia e Comercio, Ideal Standard Equipamentos Sanitarios LDA., Ideal Standard Financial Services SPRL, Ideal Standard GmbH, Ideal Standard Group, S. de R.L. de C.V., Ideal Standard Holding Italia S.r.l., Ideal Standard Industries France SAS, Ideal Standard Polska Sp. Z.o.o., Ideal Standard Porcher (U.K.) Limited, Ideal Standard S.A.I., Ideal Standard Scandinavia A/S, Ideal Standard S.L.U., Ideal Standard s.r.o, Ideal Standard (Thailand) Ltd., Ideal Standard Verwaltungs GmbH, Ideal Standard-Vidima AD, Jado Iberia-Produtos Metalurgicos, S.A., PT American Standard Indonesia, SAU Corp., SCI Saint Didier, Sorosa, Venborgh Holding B.V., Wabco Standard French Holdings SAS, Wabco Wedneday Ltd.
20071996 | Perot Systems Corporation | J.J. Wild Holdings, Inc | J.J. Wild Holdings, Inc.
20071997 | Security Benefit Mutual Holding Company | 2003 Dynamic Irrevocable Trust | Rydex Holdings, Inc.
20071998 | Security Benefit Mutual Holding Company | The Skip Viragh Foundation, Inc | Investment Capital Technologies, LLC.
20072000 | The Bear Stearns Companies Inc | Deb Shops, Inc | Deb Shops, Inc.
20072001 | Schneider Electric SA | Davis McDonald | Pelco.
20072002 | International Business Machines Corporation | Princeton Softech, Inc | Princeton Softech, Inc.
20072003 | Sageview Capital Master, L.P | Sally Beauty Holdings, Inc | Sally Beauty Holdings, Inc.
20072004 | General Electric Company | NRDC Equity Partners Fund III, LLC | Lord & Taylor LLC.
20072005 | Andrew Intrater | Ares Corporate Opportunities Fund II, L.P | White Energy, Inc.
20072006 | TCV VI, L.P | TradingScreen Inc | TradingScreen Inc.
20072007 | Merck & Co., Inc | ev3 Inc | ev3 Inc.
20072010 | Swedish Match AB | Cigars International Holding Company, Inc | Cigars International Holding Company, Inc.
20072017 | Leandro P. Rizzuto | Allegro Mfg. Inc | Allegro Mfg. Inc.
20072020 | GSI Commerce, Inc | J. Michael Cline | Accretive Commerce, Inc.
20072021 | Azim H. Premji | Infocrossing, Inc | Infocrossing, Inc.
20072023 | Koch Industries, Inc | Smurfit-Stone Container Corporation | Smurfit-Stone Container Corporation.
Transactions Granted Early Termination—08/28/2007
20071993 | Highland Crusader Fund II, Ltd | PDL BioPharma, Inc | PDL BioPharma, Inc.
20072016 | News Corporation | Dow Jones & Company, Inc | Dow Jones & Company, Inc.
Transactions Granted Early Termination—08/29/2007
20071983 | Sageview Capital Master, L.P | WENDEL Investissement | WENDEL Investissement.
Transactions Granted Early Termination—08/30/2007
20071913 | Star Atlantic Waste Holdings, L.P | American International Group, Inc | ADStar Waste Holdings Corp.
Transactions Granted Early Termination—08/31/2007
20071916 | MFG HOLDINGS SA | DSI International Sarl | DSI Holdings GmbH.
20071944 | Ram Holdings Company, LLC | United Rentals, Inc | United Rentals, Inc
20071964 | Amedisys, Inc | IntegriCare, Inc | IntegriCare, Inc.
20071978 | Hejoassu Administracao S.A | The Brian Mahoney 2007 Grantor Retained Annuity Trust | American Gunite, Inc., American Gunite Management Co., Inc., Champion Truck Leasing, Inc., Prestige Gunite, Inc., Prestige Gunite Management Company, North Carolina, Inc., Prestige Gunite-NC, Inc., Prestige Gunite of Ft. Myers, Inc., Prestige Gunite of Ft. Pierce, Inc., Prestige Gunite of Melbourne, Inc., Prestige Gunite of Ocala, Inc., Prestige Gunite of Orlando, Inc., Prestige Gunite of Ormond Beach, Inc., Prestige Gunite of Pt. Charlotte, Inc., Prestige Gunite of Tampa, Inc., Prestige Gunite of West Palm Beach, Inc., Prestige Gunite Management Company South, Inc., Prestige Mobile Concrete, Inc., Prestige Mobile Concrete of Orlando, Inc.
20071979 | Hejoassu Administracao S.A | Mr. Beat Kahli | K&M Properties of Florida, LLC, K&M Properties of North Carolina, LLC, Prestige AB Block of Ft. Pierce, LLC, Prestige AB Block Plant, LLC, Prestige/AB Management Co., LLC, Prestige AB Management Co. of North Carolina, LLC, Prestige/AB Ready Mix, LLC, Prestige/AB Ready Mix of Alafaya, LLC, Prestige/AB Ready Mix of Davenport, LLC, Prestige/AB Ready Mix of Daytona, LLC, Prestige/AB Ready Mix of Ft. Pierce, LLC, Prestige/AB Ready Mix of Greensboro, LLC, Prestige/AB Ready Mix of Kissimmee, LLC, Prestige/AB Ready Mix of Melbourne, LLC, Prestige/AB Ready Mix of North Carolina, LLC, Prestige/AB Ready Mix of Winston-Salem, LLC.
20071995 | Castlerigg International Limited | Sybase, Inc | Sybase, Inc.
20072011 | Strength Capital Partners II, L.P | Charles I. Lunsford | Smith Mountain Industries, Inc.
20072012 | Strength Capital Partners II, L.P | Harren Investors, L.P | Smith Mountain Industries, Inc.
20072024 | Spartech Corporation | Mason Wells Leveraged Buyout Fund I, LP | Creative Forming, Inc.
20072029 | Ulysses L. Bridgeman, Jr | Brinker International, Inc | Brinker Indiana, Inc., Brinker Ohio, Inc., Brinker Restaurant Corporation, Chili's of Minnesota, Inc.
20072033 | DXP Enterprises, Inc | Dennis P. Circo | Precision Industries, Inc.
20072034 | Citrix Systems, Inc | XenSource, Inc | XenSource, Inc.
20072036 | KeyCorp | Tuition Management Systems, Inc | Tuition Management Systems, Inc.
20072038 | Informa plc | William Cohen | The Haworth Press, Inc.
20072041 | RCN Corporation | NEON Communications Group, Inc | NEON Communications Group, Inc.
20072048 | Capital One Financial Corporation | Oak Investment Partners X, L.P | NetSpend Holdings, Inc.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. 07-4619 Filed 9-18-07; 8:45 am]

BILLING CODE 6750-02-M